ENVIRONMENTAL PROTECTION AGENCY

[FRL-9669-6]

Underground Injection Control Program; Hazardous Waste Injection Restrictions; Petition for Exemption—Class I Hazardous Waste Injection; Diamond Shamrock Refining Company, LP, Sunray, TX

AGENCY: Environmental Protection Agency (EPA).

ACTION: Notice of a final decision on a no migration petition reissuance.

SUMMARY: Notice is hereby given that a reissuance of an exemption to the land disposal Restrictions, under the 1984 Hazardous and Solid Waste Amendments to the Resource Conservation and Recovery Act, has been granted to Diamond Shamrock for three Class I injection wells located at Sunray, Texas. The company has adequately demonstrated to the satisfaction of the Environmental Protection Agency by the petition reissuance application and supporting documentation that, to a reasonable degree of certainty, there will be no migration of hazardous constituents from the injection zone for as long as the waste remains hazardous. This final decision allows the continued underground injection by Diamond Shamrock, of the specific restricted hazardous wastes identified in this exemption, into Class I hazardous waste injection wells WDW-102, WDW-192, and WDW-332 at the Sunray, Texas facility until December 31, 2025, unless EPA moves to terminate this exemption. Additional conditions included in this final decision may be reviewed by contacting the Region 6 Ground Water/UIC Section. A public notice was issued February 27, 2012. The public comment period closed on April 12, 2012. No comments were received. This decision constitutes final Agency action and there is no Administrative appeal. This decision may be reviewed/appealed in compliance with the Administrative Procedure Act.

DATES: This action was effective as of April 18, 2012.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-8324.

Dated: April 26, 2012.
William K. Honker,
Acting Director, Water Quality Protection Division.

[FR Doc. 2012-10939 Filed 5-4-12; 8:45 am]

BILLING CODE 6560-50-P